NATIONAL TRANSPORTATION SAFETY BOARD

Forum

On Tuesday and Wednesday, September 19 and 20, 2017, the National Transportation Safety Board (NTSB) will convene a forum titled Runway Incursion Safety Issues, Prevention, and Mitigation. The forum will begin at 9:00 a.m. each day and is open to the public. Attendance is free, and no registration is required. NTSB Board Member Christopher A. Hart will preside over the forum. Invited panelists will include representatives from federal agencies, airlines, and industry associations. The panelists will make presentations, and a question-and-answer period between the NTSB and the panelists will follow each presentation to further explore the information discussed.

Below is the preliminary agenda.

Tuesday, September 19, 2017 (9:00 a.m. to 4:00 p.m.)

1. Opening remarks by Member Hart

2. Panel 1: Runway Incursion Statistics and Trends

3. Panel 2: Air Traffic Control

4. Panel 3: Aircraft Operations

Wednesday, September 20, 2017 (9:00 a.m. to 4:00 p.m.)

1. Opening remarks by Member Hart

2. Panel 4: Airports

3. Roundtable discussion with panelists and other industry stakeholders, moderated by Member Hart

4. Closing remarks by Member Hart

The forum will be held in the NTSB Boardroom and Conference Center, located at 429 L'Enfant Plaza SW., Washington, DC. The public can view the forum in person or via live webcast at http://ntsb.capitolconnection.org/. An archived version of each day's webcast is expected to be available on September 21, 2017, and the webcasts will be archived for 3 months after the date of the event.

Individuals requiring reasonable accommodation and/or wheelchair access directions should contact Rochelle McCallister at (202) 314-6305 or by email at Rochelle.McCallister@ntsb.gov by Tuesday, September 12, 2017. Schedule updates, including weather-related cancellations, are also available at www.ntsb.gov.

NTSB Media Contact: Mr. Terry Williams—WilliaT@ntsb.gov.

NTSB Forum Manager: Mr. Dan Bartlett—Daniel.Bartlett@ntsb.gov.

Candi R. Bing,
Federal Register Liaison Officer.

[FR Doc. 2017-18662 Filed 9-1-17; 8:45 am]

BILLING CODE 7533-01-P